DEPARTMENT OF HOMELAND SECURITY

Federal Emergency Management Agency

[Docket ID FEMA-2022-0022; OMB No. 1660-0054]

Agency Information Collection Activities: Submission for OMB Review; Comment Request; Assistance to Firefighters Grant Program and Fire Prevention and Safety Grants-Grant Application Supplemental Information

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. This notice invites the general public to comment on the extension of a currently approved collection, with changes, concerning the applications for the Assistance to Firefighters Grant (AFG) program, the Fire Prevention and Safety (FP&S) Grants program, the Staffing for Adequate Fire and Emergency Response (SAFER) Grants program, and the Assistance to Firefighters Grant Program—COVID-19 Supplemental (AFG-S). These programs focus on enhancing the safety of the public and firefighters with respect to fire and fire-related hazards. The changes proposed will acknowledge the FEMA Grants Outcomes (FEMA GO) system as the new collection instrument for the AFG, AFG-S, SAFER, and FP&S programs. The individual forms will be combined into a question bank to allow the FEMA GO system to fully utilize its technology to simplify the process by reducing unnecessary questions.

DATES: Comments must be submitted on or before December 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or William Dunham, Fire Program Specialist, FEMA, Grant Programs Directorate, at 202-786-9813 or Firegrants@fema.dhs.gov.

SUPPLEMENTARY INFORMATION: The authority for these grant programs is derived from the Coronavirus Aid, Relief, and Economic Security (CARES) Act, Div. B (Pub. L. 116-136); and Sections 33 and 34 of the Federal Fire Prevention and Control Act of 1974, Public Law 93-498, as amended (15 U.S.C 2229, 2229a). The information collected is grant application information that is necessary to assess the needs of the applicants as well as the benefits to be obtained from the use of funds. The information collected through the program's application is the minimum necessary to evaluate grant applications and is necessary for FEMA to comply with mandates delineated in the law.

FEMA is consolidating several forms associated with these programs into the FEMA GO electronic system, FF-207-FY-21-116. Transitioning and consolidating these forms into the electronic system will allow FEMA to retire the following forms: FEMA Form 080-0-2, AFG Application (General Questions and Narrative); FEMA Form 080-0-2a, Activity Specific Questions for AFG Vehicle Applicants; FEMA Form 080-0-2b, Activity Specific Questions for AFG Operations and Safety Applications; FEMA Form 080-3, Activity Specific Questions for Fire Prevention and Safety Applicants; FEMA Form 080-0-3a, Fire Prevention and Safety; FEMA Form 080-0-3b, Research and Development; FEMA Form 080-0-0-13, Semi-Annual Performance Plan; FEMA Form 080-0-0-16, Final Performance Plan; FEMA Form 080-0-4, SAFER (General Questions for All Applicants); FEMA Form 080-0-4a, SAFER Hiring of Firefighters Application (Questions and Narrative); FEMA Form 080-0-4b, SAFER Recruitment and Retention of Volunteer Firefighters Application (Questions and Narrative); FEMA Form 087-0-0-2, SAFER Quarterly Report and Payment Request Form; and the AFG-S Application.

Temporary forms, FF-207-FY-22-120, AFG Programmatic Performance Report, FF-207-FY-22-123, FP&S Programmatic Performance Report, FF-207-FY-22-124, SAFER Hiring Programmatic Performance Report, and FF-207-FY-22-125, SAFER Recruitment and Retention Programmatic Performance Report, will be used to collect required performance reports until the system is able to collect this information electronically.

This proposed information collection previously published in the Federal Register on August 2, 2022, at 87 FR 47227 with a 60 day public comment period. No comments were received. The purpose of this notice is to notify the public that FEMA will submit the information collection abstracted below to the Office of Management and Budget for review and clearance.

Collection of Information

Title: Assistance to Firefighters Grant Program and Fire Prevention and Safety Grants-Grant Application Supplemental Information.

Type of Information Collection: Revision of a currently approved information collection.

OMB Number: 1660-0054.

FEMA Forms: FF-207-FY-21-116, Assistance to Firefighters Grant (AFG) Programs; FF-207-FY-22-120; Assistance to Firefighters Grant (AFG) Programmatic Performance Report; FF-207-FY-22-123, Fire Preventions and Safety (FP&S) Programmatic Performance Report; FF-207-FY-22-124, Staffing for Adequate Fire and Emergency Response (SAFER) Hiring Programmatic Performance Report; and FF-207-FY-22-125, Staffing for Adequate Fire and Emergency Response (SAFER) Recruitment and Retention Programmatic Performance Report.

Abstract: The Fire Prevention and Safety (FP&S) Grants program, the Staffing for Adequate Fire and Emergency Response (SAFER) Grants program, and the Assistance to Firefighters Grant Program—COVID-19 Supplemental (AFG-S) focus on enhancing the safety of the public and firefighters with respect to fire and fire-related hazards. FEMA uses this information to ensure that FEMA's responsibilities under the legislation can be fulfilled accurately and efficiently. The information will be used to objectively evaluate each of the anticipated applicants to determine which of the applicants' proposals in each of the activities are the closest to the established program priorities.

Affected Public: State, Local or Tribal Government; Not-for-Profit Institutions.

Estimated Number of Respondents: 24,112.

Estimated Number of Responses: 24,112.

Estimated Total Annual Burden Hours: 191,720.

Estimated Total Annual Respondent Cost: $12,345,373.

Estimated Respondents' Operation and Maintenance Costs: $0.

Estimated Respondents' Capital and Start-Up Costs: $0.

Estimated Total Annual Cost to the Federal Government: $433,412.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25899 Filed 11-25-22; 8:45 am]

BILLING CODE 9111-78-P